NUCLEAR REGULATORY COMMISSION

[Docket Nos. 50-237 and 50-249; NRC-2024-0080]

Constellation Energy Generation, LLC.; Dresden Nuclear Power Station, Units 2 and 3; Subsequent License Renewal Application

AGENCY: Nuclear Regulatory Commission.

ACTION: Notice; receipt.

SUMMARY: The U.S. Nuclear Regulatory Commission (NRC) has received an application for the renewal of Facility Operating License Nos. DPR-19 and DPR-25, which authorizes Constellation Energy Generation, LLC (CEG, the applicant) to operate Dresden Nuclear Power Station (Dresden), Units 2 and 3. The renewed licenses would authorize the applicant to operate Dresden, Units 2 and 3, for an additional 20 years beyond the period specified in the current licenses. The current operating license for Dresden, Unit 2, expires December 22, 2029. The current operating license for Dresden, Unit 3, expires January 12, 2031.

DATES: The subsequent license renewal application referenced in this document is available on May 7, 2024.

ADDRESSES: Please refer to Docket ID NRC-2024-0080 when contacting the NRC about the availability of information regarding this document. You may obtain publicly available information related to this document using any of the following methods:

• Federal Rulemaking Website: Go to https://www.regulations.gov and search for Docket ID NRC-2024-0080. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• Public Library: A copy of the subsequent license renewal application for Dresden, Units 2 and 3, can be accessed at the following public libraries: Morris Area Public Library, 604 Liberty St., Morris, IL 60450, and Coal City Public Library District, 85 N Garfield St., Coal City, IL 60416.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Mark Yoo, Office of Nuclear Reactor Regulation, U.S. Nuclear Regulatory Commission, Washington, DC 20555-0001; telephone: 301-415-8583; email: Mark.Yoo@nrc.gov.

SUPPLEMENTARY INFORMATION: The NRC has received an application from CEG, dated April 17, 2024 (ADAMS Package Accession No. ML24108A007) filed pursuant to section 103 of the Atomic Energy Act of 1954, as amended, and part 54 of title 10 of the Code of Federal Regulations, “Requirements for Renewal of Operating Licenses for Nuclear Power Plants,” to renew the operating licenses for Dresden, Units 2 and 3. Renewal of the licenses would authorize the applicant to operate the facility for an additional 20-year period beyond the period specified in the current operating licenses. The current operating license for Dresden, Unit 2, expires December 22, 2029. The current operating license for Dresden, Unit 3, expires January 12, 2031. Dresden, Units 2 and 3, are boiling water reactors located near Morris, Illinois. The acceptability of the tendered application for docketing, and other matters, including an opportunity to request a hearing, will be the subject of subsequent Federal Register notices.

A copy of the subsequent license renewal application for Dresden, Units 2 and 3, is also available to local residents near the site at the following public libraries: Morris Area Public Library, 604 Liberty St., Morris, IL 60450, and Coal City Public Library District, 85 N Garfield St., Coal City, IL 60416.

Dated: May 2, 2024.
For the Nuclear Regulatory Commission.
Lauren Gibson,
Chief, License Renewal Project Branch, Division of New and Renewed Licenses, Office of Nuclear Reactor Regulation.

[FR Doc. 2024-09951 Filed 5-6-24; 8:45 am]

BILLING CODE 7590-01-P